FARM CREDIT ADMINISTRATION

Farm Credit Administration Board; Regular Meeting; Sunshine Act Notice

AGENCY: Farm Credit Administration.

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on April 13, 2000, from 9 a.m. until such time as the Board concludes its business.

FOR FURTHER INFORMATION CONTACT: Vivian L. Portis, Secretary to the Farm Credit Administration Board (703) 883-4025, TDD (703) 883-4444.

ADDRESSES: Farm Credit Administration, 1501 Farm Credit Drive, McLean, Virginia 22102-5090.

SUPPLEMENTARY INFORMATION: This meeting of the Board will be open to the public (limited space available). In order to increase the accessibility to Board meetings, persons requiring assistance should make arrangements in advance. The matters to be considered at the meeting are:

OPEN SESSION

A. Approval of Minutes

—March 9, 2000 (Open)

B. Reports

—FCS Building Association's Quarterly Report

—Office of Examination's Annual Report on the Conditions of the System

C. New Business

1. Regulations

—OFI Lending [12 CFR Parts 614, 615, and 618] (ANPRM)

—Regulatory Burden-Phase II [12 CFR Chapter VI] (Notice)

—Participations [12 CFR Part 614] (Final)

2. Other

—Corporate Approvals Report

—Central Valley PCA Consolidation with Pacific Coast FCS, an ACA

Dated: April 6, 2000.
Vivian L. Portis,
Secretary, Farm Credit Administration Board.

[FR Doc. 00-9044 Filed 4-7-00; 10:46 am]

BILLING CODE 6705-01-P